DEPARTMENT OF LABOR

Employment and Training Administration

[TA-W-57,307]

Traverse Precision, Inc., Williamsburg, MI; Notice of Termination of Investigation

Pursuant to Section 221 of the Trade Act of 1974, as amended, an investigation was initiated on June 3, 2005 in response to a worker petition filed by a company official on behalf of workers at Traverse Precision, Inc., Williamsburg, Michigan.

The petitioner has requested that the petition be withdrawn. Consequently, the investigation has been terminated.

Signed at Washington, DC this 20th day of June 2005.
Richard Church,
Certifying Officer, Division of Trade Adjustment Assistance.

[FR Doc. E5-3764 Filed 7-14-05; 8:45 am]

BILLING CODE 4510-30-P